CONSUMER PRODUCT SAFETY COMMISSION

16 CFR Parts 1615 and 1616

Standard for the Flammability of Children's Sleepwear: Sizes 0 Through 6X; Standard for the Flammability of Children's Sleepwear: Sizes 7 Through 14

Correction

In rule document 00-5531 beginning on page 12924, in the issue of Friday, March 10, 2000, make the following correction:

§1615.32 [Corrected]

On page 12927, in the third column, in §1615.32(a)(1), in the first line, “124-1986” should read “124-1996 ”.

[FR Doc. C0-5531 Filed 4-11-00; 8:45 am]

BILLING CODE 1505-01-D

DEPARTMENT OF DEFENSE

48 CFR Part 241

[DFARS Case 99-D309]

Defense Federal Acquisition Regulation Supplement; Authority Relating to Utility Privatization

Correction

In rule document 00-766 beginning on page 2058, in the issue of Thursday, January 13, 2000, make the following corrections:

241.1032 [Corrected]

1. On page 2059, in the first column, in section 241.103, the section twist should be removed from the section heading.

2. On the same page, in the same column, in section 241.103, in the first line, “office ” should read “officer”.

[FR Doc. C0-766 Filed 4-11-00; 8:45 am]

BILLING CODE 1505-01-D

DEPARTMENT OF ENERGY

Federal Energy Regulatory Commission

[Project No. 2030-031 and 11832-000]

Portland General Electric Company and the Confederated Tribes of the Warm Springs Reservation of Oregon; Notice of Meeting

Correction

In notice document 00-7024 beginning on page 15323 in the issue of Wednesday, March 22, 2000, the docket numbers are corrected to read as set forth above.

[FR Doc. C0-7024 Filed 4-11-00; 8:45 am]

BILLING CODE 1505-01-D

SECURITIES AND EXCHANGE COMMISSION

Sunshine Act Meeting

Correction

In notice document 00-7515 beginning on page 16234, in the issue of Monday, March 27, 2000, make the following correction:

On page 16235, in the first column, above the name, add ``Dated: March 22, 2000''.

[FR Doc. C0-7515 Filed 4-11-00; 8:45 am]

BILLING CODE 1505-01-D

DEPARTMENT OF TRANSPORTATION

Federal Aviation Administration

14 CFR Part 71

[Airspace Docket No. 99-ANM-13]

RIN 2120-AA66

Modification of Multiple Federal Airways in the Vicinity of Bellingham, WA

Correction

In rule document 00-2771, beginning on page 8271, in the issue of Friday, February 18, 2000, make the following correction:

§71.1 [Corrected]

On page 8272, in the second column, in the first line, “ V-1495 [Revised]” should read “V-495 [Revised] ”.

[FR Doc. C0-2771 Filed X-XX-00; 8:45 am]

BILLING CODE 1505-01-D ÿ7Eÿ7E

DEPARTMENT OF THE TREASURY

Fiscal Service

31 CFR Part 210

RIN 1510-AA81

Federal Government Participation in the Automated Clearing House

Correction

In rule document 00-8636 beginning on page 18866, in the issue of Friday, April 7, 2000, make the following corrections:

1. On page 18866, in the first column, under the DATES: heading, in the first line and the sixth line, ``May 8, 2000'' should read ``April 7, 2000''.

[FR Doc. C0-8636 Filed X-XX-00; 8:45 am]

BILLING CODE 1505-01-D